DEPARTMENT OF COMMERCE

Foreign-Trade Zones Board

(Docket 27-2009)

Foreign-Trade Zone 234 Gregg County, Texas, Application for Reorganization under Alternative Site Framework

An application has been submitted to the Foreign-Trade Zones (FTZ) Board (the Board) by Gregg County, Texas, grantee of FTZ 234, requesting authority to reorganize the zone under the alternative site framework (ASF) adopted by the Board (74 FR 1170, 01/12/09; correction 74 FR 3987, 01/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR Part 400). It was formally filed on July 7, 2009.

The grantee's proposed service area under the ASF would be Gregg County, Texas. If approved, the grantee would be able to serve sites throughout the service area based on companies' needs for FTZ designation. The proposed service area is adjacent to the Shreveport-Bossier City Customs and Border Protection port of entry.

FTZ 234 was approved by the FTZ Board in 1998 (Board Order 1003, 63 FR 63671, 11/16/1998) and expanded in 2008 (Board Order 1590, 73 FR 76611, 12/17/2008). The applicant is requesting to include the following current sites in the reorganized zone as “magnet” sites: Proposed Site 1 (239 acres)-Gregg County Airport, 269 Terminal Circle, Longview; Proposed Site 2 (60 acres)-warehouse facility, 1320 East Harrison Road, Longview; and, Proposed Site 3 (217 acres)-Synergy Park, 1000 Synergy Boulevard, Elder Lake. The applicant proposes that Site 1 be exempt from “sunset” time limits that otherwise apply to sites under the ASF. No usage-driven sites are being proposed at this time.

In accordance with the Board's regulations, Kathleen Boyce of the FTZ Staff is designated examiner to evaluate and analyze the facts and information presented in the application and case record and to report findings and recommendations to the Board.Public comment is invited from interested parties. Submissions (original and 3 copies) shall be addressed to the Board's Executive Secretary at the address below. The closing period for their receipt is September 15, 2009. Rebuttal comments in response to material submitted during the foregoing period may be submitted during the subsequent 15-day period (to September 30, 2009).

A copy of the application will be available for public inspection at the Office of the Executive Secretary, Foreign-Trade Zones Board, Room 2111, U.S. Department of Commerce, 1401 Constitution Avenue, NW, Washington, DC 20230-0002, and in the “Reading Room” section of the Board's website, which is accessible via www.trade.gov/ftz. For further information, contact Kathleen Boyce at Kathleen_Boyce@ita.doc.gov or 202-482-1346.

Dated: July 8, 2009.
Andrew McGilvray,
Executive Secretary.

[FR Doc. E9-17076 Filed 7-16-09; 8:45 am]

BILLING CODE 3510-DS-S